DEPARTMENT OF EDUCATION

Proposed Extension of Project Period and Waiver

AGENCY: Office of Special Education Programs, Office of Special Education and Rehabilitative Services, Department of Education.

ACTION: Notice of proposed extension of project period and waiver.

SUMMARY: The Secretary proposes to waive the requirements in Education Department General Administrative Regulations (EDGAR), at 34 CFR 75.250 and 75.261(a), that generally prohibit project periods exceeding 5 years and project extensions involving the obligation of additional Federal funds to enable the currently-funded Regional Resource Centers (RRCs) to receive funding from June 1, 2003 until May 31, 2004.

DATES: We must receive your comments on or before April 30, 2003.

ADDRESSES: Address all comments concerning this proposal to Debra Sturdivant or Marie Roane, U.S. Department of Education, 400 Maryland Avenue, SW., room 3527, Switzer Building, Washington, DC 20202-2641. If you prefer to send your comments through the Internet, use the following address:

Debra.Sturdivant@ed.gov or

Marie.Roane@ed.gov.

FOR FURTHER INFORMATION CONTACT: Debra Sturdivant, Telephone: (202) 205-8038, or Marie Roane, Telephone: (202) 205-8451.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

SUPPLEMENTARY INFORMATION:

Invitation To Comment

We invite you to submit comments regarding this proposed extension of project period and waiver.

During and after the comment period, you may inspect all public comments about this extension of project period and waiver in room 3727, Switzer Building, 330 C Street SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, you may call (202) 205-8113 or (202) 260-9895. If you use a TDD, you may call the Federal Information Relay Service at 1-800-877-8339.

Background

On February 24, 1998, we published in the Federal Register (63 FR 9376-9378) a notice inviting applications for new awards under the Regional Resource Center Program for Fiscal Year 1998. Based on this notice, the Department made six awards of 56 months under 34 CFR 75.105(c)(3) and the Individuals with Disabilities Education Act (IDEA). Section 685 of IDEA authorizes the Secretary to support the establishment of Regional Resource Centers (RRCs). These Centers provide technical assistance and information that support States and local agencies in building capacity to improve early intervention, educational, and transitional services and results for children with disabilities and their families, and address systemic-change goals and priorities. The grant period for the six centers ends May 31, 2003.

In order to carry out activities related to implementing an initiative of the Office of Special Education Programs (OSEP) to identify and disseminate alternative approaches to identifying children with learning disabilities, it is necessary to issue continuation awards to the existing grantees. Specifically, the current RRCs are helping to conduct a survey in each of their regions to collect information on the ways that States identify children with learning disabilities.

In particular, the Secretary plans for the RRCs to work with staff of OSEP, the Kennedy Center Research Program on Learning Accommodations for Individuals with Special Needs at Vanderbilt University, State educational agencies, regional in-state technical assistance systems and other State and local agencies to:

(1) Develop a coordinated plan for identifying sites within each RRC region using alternative approaches for identification of children with learning disabilities;

(2) Assist in efforts to provide or gather evidence of the value of more effective approaches for addressing the needs of children with learning disabilities; and

(3) Use research-based dissemination, training, and technical assistance to extend and increase effective practices in the area of learning disabilities.

The RRCs will also work with centers providing technical assistance to projects funded under the Training and Information for Parents of Children with Disabilities program to continue to foster improved collaboration on the No Child Left Behind Act of 2001 and IDEA, which will improve results for children with disabilities.

In addition, the Secretary plans for the RRCs to provide continued assistance to State educational agencies for Part B and the lead agencies for Part C in each region to support their implementation of continuous improvement and focused monitoring activities.

Reasons

There is an immediate need to provide training and information to the populations that will be targeted by these efforts. Providing continuous support to existing grantees will help ensure the success of these efforts by avoiding the possible disruption or interruption of activities resulting from a change in grantees. Waiting until after a new RRC competition to begin this important work would severely hinder the Department's efforts to address the critical needs that are now present in the regions. The current RRCs have already conducted extensive training and information activities related to State implementation of the IDEA Amendments of 1997 and are best suited to conduct this effort. We have determined that an additional period of time is needed to begin the additional technical assistance and training activities described in this notice.

Therefore, the Secretary proposes to issue continuation awards to the current grantees for twelve (12) months. A one-year time extension beginning June 1, 2003 thru May 31, 2004 is being proposed to ensure the successful completion of the projects. However, to do so, the Secretary must waive the requirements in 34 CFR 75.250 and 75.261(c)(2), which prohibit project periods exceeding 5 years and period extensions that involve the obligation of additional Federal funds. We are proposing a waiver at this time in order to give the affected grantees early notice of the availability of an additional twelve months of funding.

Regulatory Flexibility Act Certification

The Secretary certifies that the proposed waiver and extension of the project period will not have a significant economic impact on a substantial number of small entities. The only small entities that would be affected are the six RRCs.

Paperwork Reduction Act of 1995

This extension and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other

Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.326, Technical Assistance and Dissemination to Improve Services and Results for Children with Disabilities.)
Dated: March 25, 2003.
Robert H. Pasternack,
Assistant Secretary for Special Education and Rehabilitative Services.

[FR Doc. 03-7690 Filed 3-28-03; 8:45 am]

BILLING CODE 4000-01-P